NUCLEAR REGULATORY COMMISSION

[Docket No. 50-255-LA-4;ASLBP No. 25-988-01-LA-BD01]

HOLTEC PALISADES, LLC; ESTABLISHMENT OF ATOMIC SAFETY AND LICENSING BOARD

Pursuant to the Commission's regulations, see, e.g., 10 CFR 2.104, 2.105, 2.300, 2.309, 2.313, 2.318, 2.321, notice is hereby given that an Atomic Safety and Licensing Board (Board) is being established to preside over the following proceeding:

HOLTEC PALISADES, LLC (Palisades Nuclear Plant)

Holtec Palisades, LLC has requested an amendment to Renewed Facility Operating License No. DPR-20 to allow the use of Framatome Alloy 690 sleeves to repair defective steam generator tubes, in support of the potential reauthorization of power operations at the Palisades Nuclear Plant, which is located in Covert Township, Michigan. In response to a notice filed in the Federal Register announcing the opportunity to request a hearing, see 90 FR 15,722 (Apr. 15, 2025), Beyond Nuclear, Don't Waste Michigan, Michigan Safe Energy Future, Three Mile Island Alert, and Nuclear Energy Information Service filed a hearing request on June 16, 2025.

The Board is comprised of the following Administrative Judges:

Michael M. Gibson, Chair, Atomic Safety and Licensing Board Panel, U.S. Nuclear Regulatory Commission, Washington, DC 20555-0001

Dr. Gary S. Arnold, Atomic Safety and Licensing Board Panel, U.S. Nuclear Regulatory Commission, Washington, DC 20555-0001

Dr. Arielle J. Miller, Atomic Safety and Licensing Board Panel, U.S. Nuclear Regulatory Commission, Washington, DC 20555-0001

All correspondence, documents, and other materials shall be filed in accordance with the NRC E-Filing rule. See 10 CFR 2.302.

Dated: June 25, 2025.
Emily I. Krause,
Associate Chief Administrative Judge, Atomic Safety and Licensing Board Panel, Rockville, Maryland.

[FR Doc. 2025-11996 Filed 6-27-25; 8:45 am]

BILLING CODE 7590-01-P